DEPARTMENT OF ENERGY

Office of Energy Efficiency and Renewable Energy

Golden Field Office; Fiscal Year 2001 Broad Based Solicitation for Submission of Financial Assistance Applications

AGENCY: Department of Energy (DOE).

ACTION: Notice of supplemental announcement (01) to the Fiscal Year 2001 broad based solicitation for submission of financial assistance applications involving research, development, and demonstration.

SUMMARY: The Hydrogen Program of the DOE Office of Energy Efficiency and Renewable Energy (EERE) is issuing a Supplemental Announcement to the EERE Fiscal Year 2001 Broad Based Solicitation for Submission of Financial Assistance Applications Involving Research, Development and Demonstration, DE-PS36-01GO90000, dated November 27, 2000. Under this Supplemental Announcement, DOE is seeking proposals that can advance and demonstrate the use of fuel cell technology in hydrogen-powered, mobile, underground mining vehicles. DOE is proposing to undertake this effort under the provisions of the Hydrogen Future Act of 1996. DOE anticipates selecting one Application for negotiation of an award under this Supplemental Announcement. The award will be a Cooperative Agreement with a term to be determined based upon the proposed demonstration time frame of the selected Applicant. A minimum cost share of 50% of the total project costs is required for an Application to be considered for award under this Supplemental Announcement.

All information regarding the Supplemental Announcement will be posted on the DOE Golden Field Office Home page at the address identified below.

DATES: DOE expects to issue the Supplemental Announcement in Mid—December, 2000. The closing date of the Supplemental Announcement is February 15, 2001.

ADDRESSES: The Supplemental Announcement will be posted on the DOE Golden Field Office Home Page at http://www.golden.doe.gov/businessopportunities.html under “Solicitations”.

FOR FURTHER INFORMATION CONTACT: Shirley Johnson, Contract Specialist, at Facsimile 303-275-4788 or e-mail Shirley_Johnson@nrel.gov.

Issued in Golden, Colorado, on December 8, 2000.
Jerry L. Zimmer,
Procurement Director, Golden Field Office.

[FR Doc. 00-32120 Filed 12-15-00; 8:45 am]

BILLING CODE 6450-01-P